ENVIRONMENTAL PROTECTION AGENCY

40 CFR Part 52

[R04-OAR-2005-SC-0001, R04-OAR-2005-GA-0001-200516; FRL-7957-1]

Approval and Promulgation of Air Quality Implementation Plans; South Carolina and Georgia; Attainment Demonstration for the Appalachian, Catawba, Pee Dee, Waccamaw, Santee Lynches, Berkeley-Charleston-Dorchester, Low Country, Lower Savannah, Central Midlands, and Upper Savannah Early Action Compact Areas

AGENCY: Environmental Protection Agency (EPA).

ACTION: Final rule.

SUMMARY: The EPA is approving revisions to the South Carolina and Georgia State Implementation Plans (SIPs), submitted by the South Carolina Department of Health and Environmental Control (SC DHEC) and the Georgia Environmental Protection Division (EPD), respectively, for the Early Action Compact (EAC) areas in South Carolina and Georgia. The proposed SIP revisions were submitted on December 29, 2004, by South Carolina and December 31, 2004, by Georgia. There are ten EAC areas in South Carolina and Georgia covered by this final action: the Appalachian, Catawba, Pee Dee, Waccamaw, Santee Lynches, Berkeley-Charleston-Dorchester, Low Country, Lower Savannah, Central Midlands, and Upper Savannah EAC Areas. Only the Lower Savannah EAC Area has counties in both South Carolina and Georgia. For the purposes of this document, however, all of the above listed EAC areas will be collectively referred to as the “South Carolina and Georgia EAC Areas.” The SIP revisions meet the requirements for the South Carolina and Georgia EAC Areas to attain and maintain the 8-hour ozone national ambient air quality standard (the 8-hour ozone standard) as described in the EAC Protocol and related regulations. EPA is also now approving the photochemical modeling used by South Carolina and Georgia to support the attainment and maintenance demonstrations of the 8-hour ozone standard in the South Carolina and Georgia EAC Areas. The revisions being approved today further incorporate regulatory control measures into the South Carolina SIP, including two Statewide regulations pertaining to control of nitrogen oxide (NOX) emissions and open burning. In addition, this final action also corrects inadvertent errors in the May 26, 2005, proposal document relating to these SIP revisions (70 FR 30396).

In today's final action, EPA is not finalizing its proposed rulemaking to defer the effective date of the nonattainment designations for EAC areas. In a separate action, published on June 8, 2005, EPA proposed to defer the effective date of the nonattainment deferred designation for EAC areas until December 31, 2006 (69 FR 23858). EPA final action on the deferral is expected to be published before September 30, 2005.

DATES: This rule will be effective September 26, 2005.

ADDRESSES: EPA has established a docket for this action under Regional Material in EDocket (RME) ID No. R04-OAR-2005-SC-0001 and R04-OAR-2005-GA-0001. The EAC Protocol can be found in RME ID No. R04-OAR-2005-SC-0001 or R04-OAR-2005-GA-0001. The protocol can also be found at http://www.epa.gov/air/eac/. All documents in the docket are listed in the RME index at http://docket.epa.gov/rmepub/. Once in the system, select “quick search,” then key in the appropriate RME Docket identification number. Although listed in the index, some information is not publicly available, i.e., confidential business information (CBI) or other information whose disclosure is restricted by statute. Certain other material, such as copyrighted material, is not placed on the Internet and will be publicly available only in hard copy form. Publicly available docket materials are available either electronically in RME or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION:

Table of Contents

I. Background

II. Today's Action

III. Response to Comments

IV. Final Action

V. Statutory and Executive Order Reviews

I. Background

On May 26, 2005 (70 FR 30396), EPA proposed approval of SIP revisions for the South Carolina and Georgia EAC Areas demonstrating attainment and maintenance of the 8-hour ozone standard, 0.08 parts per million (ppm), in these EAC Areas by December 31, 2007.¹ Additional information regarding the SIP revisions being approved today is available in the proposed rule (70 FR 30396, May 26, 2005) and in the Docket for this action. Only two of the ten South Carolina and Georgia EAC Areas, Appalachian and Central Midlands, include counties designated as nonattainment deferred. All of the other counties in the South Carolina and Georgia EAC Areas are designated as unclassifiable/attainment. Additional information regarding the designations process, and the South Carolina and Georgia EAC Area designations, is available in 69 FR 23858 (April 30, 2004).² The SIP revisions being approved today are consistent with the requirements established in the EAC Protocol and related regulations.

¹ The 8-hour ozone standard was promulgated on July 18, 1997 (62 FR 38856).

² As discussed in the April 30, 2004, designations and the May 26, 2005, proposal for the South Carolina—Georgia SIP revisions, the South Carolina EAC Areas includes counties designated as unclassifiable/attainment and nonattainment-deferred. The specific measures included in the SIP revisions may be different depending on the specific county's designation.

EPA received public comments for thirty days on the SIP revisions being approved today. Several comments were received and only one opposed the proposal, but for reasons not directly related to the substance of the SIP revisions. These comments are discussed below, in Part III. “Response to Comments.”

Summary of EAC Process

An EAC is an agreement between a state, local governments, and EPA to implement measures not necessarily required by the Clean Air Act (CAA) in order to achieve cleaner air as soon as possible.³ Communities close to or exceeding the 8-hour ozone standard that have elected to enter into an EAC have started reducing air pollution at least two years earlier than required by the CAA. In many cases, these reductions will be achieved by local air pollution control measures not otherwise mandated under the CAA. In accordance with the EAC Protocol, South Carolina submitted EACs for the South Carolina and Georgia EAC Areas in December, 2002. Georgia submitted materials for the Lower Savannah EAC Area on December 31, 2002. The compacts themselves were signed by state air quality officials in both Georgia and South Carolina, representatives of the local communities, and the Regional Administrator for EPA Region 4. The EAC program was designed for areas that approached or monitored violations of the 8-hour ozone standard, but were in attainment for the 1-hour ozone national ambient air quality standard (the 1-hour ozone standard). The 1-hour ozone standard will be revoked for counties in EAC areas one year after the effective dates of their respective 8-hour ozone designations. See 40 CFR 50.9(b) for additional information on the revocation of the 1-hour ozone standard.

³ Further information about the EAC program is available in the EAC Protocol and prior Federal Register notices available at http://www.epa.gov/air/eac/.

As part of the EAC program, EPA deferred the effective date of the nonattainment designations for EAC areas that were violating the 8-hour ozone standard, but continue to meet the milestones described in the EAC Protocol. Details of this deferral were published in the Federal Register on April 30, 2004 (69 FR 23858). On June 8, 2005, EPA proposed to extend the deferred effective date of the nonattainment designations through December 31, 2006 (70 FR 33409), for the EAC areas that have met their obligations. A subsequent action will continue the deferral until December 31, 2007, when attainment evaluations will begin. Pursuant to the EAC Protocol, the designation process is scheduled to be completed by April 15, 2008. To date, the South Carolina and Georgia EAC Areas have met all the EAC milestones. In April, 2008, it is anticipated that EAC areas with air quality monitoring data showing attainment for the years 2005-2007, that have also met all the compact milestones, will be designated attainment for the 8-hour ozone standard. EPA believes that early planning and implementation of control measures that improve air quality will likely accelerate protection of public health. The EAC program allows participating state and local entities to make decisions that will accelerate meeting the new 8-hour ozone standard using a mix of local, state, and federal measures. All of the measures being approved today as part of the SIP revisions will be mandatory and federally enforceable.

Brief Summary of Control Measures and Modeling

The details of the SIP revisions being approved today are available for review in the RME Docket under ID No. R04-OAR-2005-SC-0001 and R04-OAR-2005-GA-0001. In addition, the measures described below are applied differently to different areas depending on the specific area's designation (i.e., unclassifiable/attainment or nonattainment-deferred). Generally, the SIP revisions include emissions inventory, modeling, control strategies, and maintenance for growth elements as required by the EAC Protocol. With regard to control measures, the South Carolina and Georgia SIP revisions include federal, state, and local control measures. The federal control measures for both states include, among others, Tier 2 vehicle standards and low sulfur fuel, and the NOX SIP Call for South Carolina.

The state control measures for South Carolina include amendments to State Regulation 61-62, Air Pollution Control Regulations and Standards, that revise State Regulation 61-62.2—Prohibition of Open Burning and add State Regulation 61-62.5, Air Pollution Control Standards, Standard No. 5.2, Control of Oxides of Nitrogen. Additional information regarding these regulatory changes is available in the May 26, 2005, proposal (70 FR 30396) as well as in the Docket for this rulemaking. These two regulations were published in the South Carolina State Register on June 25, 2004, and are now being approved into the South Carolina SIP.

The local control measures being approved into the South Carolina SIP for the South Carolina EAC Areas include, among others, implementing emissions reduction strategies at several facilities, truck stop electrification, and gas can exchange events. The facilities implementing emissions reduction strategies are the Duke Power Lee Steam Station in Anderson County, the Transcontinental Gas Pipeline Corporation in Spartanburg County, and International Paper and SCE&G—Wateree in Richland County. Additional information regarding these and other local measures is available in the May 26, 2005, proposal (70 FR 30396), and the Docket for this rulemaking. Specifically, Appendix 16 of the South Carolina SIP submittal, included in the Docket, contains detailed information on the local measures being approved as part of this final action.

In addition to control measures, the South Carolina SIP revisions also include a maintenance for growth plan that meets and exceeds the minimum requirements of the EAC Protocol for such a plan. The EAC Protocol requires that maintenance be demonstrated through 2012. In summary, the South Carolina plan demonstrates attainment until 2017, commits to a mid-point evaluation in 2012, and commits to develop a second 10-year maintenance plan from 2017-2027, among other elements.

The State of Georgia, as part of the Lower Savannah EAC Area, has also adopted measures that positively impact air quality in that area. This area is designated as unclassifiable/attainment, but still elected to participate in the EAC program. Georgia's statewide control measures include an open burning ban during the ozone season and Stage I Vapor Recovery, among others. The Georgia SIP revisions also demonstrate maintenance through 2012, as required by the EAC Protocol.

The States of South Carolina and Georgia both used a process known as photochemical modeling to evaluate attainment and maintenance of the 8-hour ozone standard. The photochemical modeling performed by South Carolina and Georgia used control measures to model attainment and maintenance of the 8-hour ozone. The South Carolina EAC Areas passed the attainment test for 2007, 2012, and 2017. Consistent with South Carolina's modeling, Georgia's modeling for the Lower Savannah EAC Area (modeled by both South Carolina and Georgia) demonstrates that the Area passed the attainment test for 2007, and 2012. This type of modeling is consistent with the EAC Protocol and EPA Draft Modeling Guidance that was provided to the participating EAC Areas.⁴ Additional information regarding the modeling performed by South Carolina and Georgia is available in the Docket, RME ID No. R04-OAR-2005-SC-0001 and R04-OAR-2005-GA-0001.

⁴ This guidance can be found at http://www.epa.gov/ttn/naaqs/ozone/eac/index.htm#Guidance.

II. Today's Action

Today, EPA is taking final action, pursuant to sections 110 and 116 of the CAA, 42 U.S.C. 7410 and 7416, to approve revisions to the South Carolina and Georgia SIPs. The SIP revisions being approved today are consistent with the EAC Protocol and related regulations. These revisions demonstrate attainment of the 8-hour ozone standard within the South Carolina and Georgia EAC Areas by 2007, and demonstrate maintenance for five or more years beyond 2007. The revisions being approved today further incorporate regulatory control measures (revisions to state regulations) into the South Carolina SIP.

Additionally, today we are correcting inadvertent errors in the May 26, 2005, proposal to approve the South Carolina and Georgia EAC Area SIP revisions (70 FR 30396). These inadvertent errors included the types of control measures modeled for attainment, the counties included in the Upper Savannah EAC Area, and a typographical error in the table entitled, “County Level Emission Reductions in South Carolina EAC Nonattainment-Deferred Areas.” These errors, described in greater detail below, are now being corrected as part of this final action. The corrections below are made to Section VII., “What Measures are Included in this EAC SIP Submittal,” and are listed below.

1. Page 30402, 2nd paragraph, 2nd sentence should have read: South Carolina also adopted and made revisions to measures applicable statewide.

2. On page 30403, under the table entitled “County Level Emission Reductions in South Carolina EAC Nonattainment-Deferred Areas,” first column, sixth row, “0.24 lb/mmBTU” should have read “0.27 lb/mmBTU.”

3. On page 30403, under the table entitled “County Level Emission Reductions in South Carolina EAC Nonattainment-Deferred Areas,” first column, sixth row, the following sentence should have been included:

In addition, the low NOX burners will be installed and implemented in accordance with the October 18, 2004, letter from Duke Power included in the South Carolina SIP submittal.

4. On page 30404, 1st paragraph, 2nd sentence should have read: There are two counties in Georgia, Richmond and Columbia, participating in the Early Action Compact Program as a part of the Lower Savannah EAC Area.

III. Response to Comments

EPA Region 4 received two comment letters in response to the May 26, 2005, proposal to approve the South Carolina and Georgia EAC Area SIP revisions. Both comments expressed support for the goal of clean air sooner. The first commenter supported EPA's proposal to approve the South Carolina Appalachian EAC Area SIP revisions. The second commenter raised concerns about EPA's proposal to approve the South Carolina and Georgia EAC Area SIP revisions, although the issues raised by this commenter were not directly relevant to the May 26, 2005, proposal.⁵

⁵ EPA notes that the Southern Environmental Law Center (SELC) provided EPA with comments on EPA's June 8, 2005, proposal to defer the effective date of the nonattainment designations for the South Carolina EAC Areas. Because this comment was submitted in response to EPA's proposed deferral action, and not EPA's May 26, 2005, proposal to approve South Carolina's SIP revisions, the comment will be responded to by EPA in our subsequent rulemaking addressing the deferred effective date for the nonattainment designation for South Carolina EAC Areas.

In the only unsupportive comment received in response to EPA's May 26, 2005, proposal to approve the South Carolina and Georgia EAC Area SIP revisions, the commenter, the New York State Department of Environmental Conservation (NYSDEC), noted its opposition to today's action for two reasons. First, the SIP revisions provide for the deferment of a nonattainment designation until a future date potentially as late as December 31, 2007; second, the revisions relieve the Areas of obligations under Title I, Subpart D of the CAA. These two issues are directly related to EPA's June 8, 2005, proposal to defer the effective date of the nonattainment designations for EAC Areas across the country (70 FR 33409). NYSDEC also raised these same issues in response to EPA's June 8, 2005, deferral proposal. Because the comment relates to deferral issues, and was also submitted on the June 8, 2005, deferral proposal, it will be responded to by EPA in our subsequent rulemaking addressing the deferred effective date for nonattainment designations for EAC areas. When published, this final deferral rule will be available on the EAC Web site http://www.epa.gov/air/eac/. Notably, contrary to the comment, today's action by EPA to approve SIP revisions for the States of South Carolina and Georgia neither provides for deferral of the nonattainment designation nor relieves an area from obligations under Title I, Subpart D of the CAA.

IV. Final Action

EPA is approving the revisions to the South Carolina and Georgia SIPs submitted on December 29, 2004, and December 31, 2004, respectively, pursuant to the EAC Protocol and resulting in emission reductions needed to attain and maintain the 8-hour ozone standard in the Appalachian, Catawba, Pee Dee, Waccamaw, Santee Lynches, Berkeley-Charleston-Dorchester, Low Country, Lower Savannah, Central Midlands, and Upper Savannah EAC Areas.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the states, on the relationship between the National Government and the states, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 25, 2005. Filing a petition for reconsideration by the Administrator of this final rule does not affect the finality of this rule for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Intergovernmental relations, Nitrogen dioxide, Ozone, Particulate matter, Reporting and recordkeeping requirements, Volatile organic compounds.

Dated: August 15, 2005.
J.I. Palmer, Jr.,
Regional Administrator, Region 4.

40 CFR part 52 is amended as follows:

PART 52—[AMENDED]

1. The authority citation for part 52 continues to read as follows:

Authority: 42 U.S.C. 7401 et seq.

Subpart L—Georgia

2. Section 52.570(e) is amended by adding a new entry 23 at the end of the table to read as follows:

§ 52.570 Identification of plan.

* * * * *

(e) * * *

EPA Approved Georgia Nonregulatory Provisions
Name of nonregulatory SIP provision | Applicable geographic or nonattainment area | State submittal date/effective date | EPA approval date
* * * * * * *
23. Attainment Demonstration for the Lower Savannah—Augusta Early Action Compact Area. | Columbia and Richmond Counties. | December 31, 2004. | August 26, 2005. [Insert first page number of publication]
* * * * * * *

Subpart PP—South Carolina

3. Section 52.2120 is amended:

a. In paragraph (c) by revising the entry for “Regulation No. 62.2.”

b. In paragraph (c) under Regulation 62.5, by adding a new entry for “Standard No. 5.2.”

c. In paragraph (e) by adding a new entry at the end of the table for “Attainment Demonstration for the Appalachian, Catawba, Pee Dee, Waccamaw, Santee Lynches, Berkeley-Charleston-Dorchester, Low Country, Lower Savannah, Central Midlands, and Upper Savannah Early Action Compact Areas.”

§ 52.2120 Identification of plan.

* * * * *

(c) * * *

Air Pollution Control Regulations for South Carolina
State citation | Title/subject | State effective date | EPA approval date | Federal Register Notice
* * * * * * *
Regulation 62.2 | Prohibition of Open Burning | 06/25/04 | 08/26/05 | [Insert first page number of publication].
* * * * * * *
Regulation No. 62.5 Air Pollution Control Standards
* * * * * * *
Standard No. 5.2 | Control of Oxides of Nitrogen (NOX) | 06/25/04 | 08/26/05 | [Insert first page number of publication].
* * * * * * *

(e) * * *

EPA-Approved South Carolina Non-Regulatory Provisions
Provision | State effective date | EPA approval date | Explanation
* * * * * * *
Attainment Demonstration for the Appalachian, Catawba, Pee Dee, Waccamaw, Santee Lynches, Berkeley-Charleston-Dorchester, Low Country, Lower Savannah, Central Midlands, and Upper Savannah Early Action Compact Areas | 12/29/04 | 08/26/05 [Insert first page number of publication]

[FR Doc. 05-16598 Filed 8-25-05; 8:45 am]

BILLING CODE 6560-50-P